NATIONAL TRANSPORTATION SAFETY BOARD

Proposed Information Collection Activity: Submission for OMB Review; Comment Request

AGENCY: National Transportation Safety Board (NTSB).

ACTION: Notice.

SUMMARY: The NTSB is announcing that it is submitting an Information Collection Request (ICR) to the Office of Management and Budget (OMB) for approval, in accordance with the Paperwork Reduction Act. This ICR describes a form that the NTSB plans to use to obtain the contact information of family members and friends of those persons who have been involved in transportation accidents, as well as the survivors of those accidents, who seek to receive periodic updates from the NTSB's Office of Transportation Disaster Assistance. This Notice informs the public that they may submit comments concerning the proposed use of this form to the NTSB Desk Officer at the OMB.

DATES: Submit written comments regarding this proposed collection of information by January 3, 2011.

ADDRESSES: Respondents may submit written comments on the collection of information to the Office of Information and Regulatory Affairs of the Office of Management and Budget, Attention: Desk Officer for the National Transportation Safety Board, Washington, DC 20503.

FOR FURTHER INFORMATION CONTACT: Max Green, NTSB Office of Transportation Disaster Assistance, at (202) 314-6611.

SUPPLEMENTARY INFORMATION: In accordance with OMB regulations that require this Notice for proposed ICRs, the NTSB herein notifies the public that it may submit comments on this proposed ICR to OMB. 5 CFR 1320.10(a).

The NTSB will use the form to collect e-mail and mailing addresses, as well as telephone contact information in order to provide information to victims of transportation accidents, and/or victims' family members and friends. The NTSB's purpose in proposing to use the form is to ensure that the NTSB has correct contact information for family members and friends of victims and/or survivors to whom the Office of Transportation Disaster Assistance will provide information. The form will solicit the following information: (1) First and last name of family member, friend, or survivor who seeks to receive updates; (2) home, cellular, and/or other telephone number; (3) e-mail address; (4) mailing address; (5) victim's name and description of requestor's relationship to victim; and (6) other comments or instructions, if desired.

The NTSB notes that completion of the form is voluntary. In addition, the NTSB will accept forms that are only partially completed; for example, some individuals may not wish to include their telephone numbers, but will include their e-mail addresses. The NTSB accepts all forms that contain any type of contact information, as the NTSB is committed to providing information to and coordinating services for family members, friends, and survivors of transportation accidents. Once a person completes the form, the NTSB will add their name to a list of individuals whom the NTSB will contact to provide information and coordinate services.

The NTSB has carefully reviewed the form to ensure that it has used plain, coherent, and unambiguous terminology in its request for information. The form is not duplicative of other agencies' collections of information. The NTSB believes this proposed form, given its brevity, will impose a minimal burden on respondents: the NTSB estimates that respondents will spend, at most, 10 minutes in completing the form. The NTSB estimates that approximately 50 respondents per year will complete the form, but notes that this number may vary, given the unpredictable nature of the frequency of transportation accidents.

Dated: November 29, 2010.
Candi Bing,
Federal Register Liaison Officer.

[FR Doc. 2010-30300 Filed 12-1-10; 8:45 am]

BILLING CODE 7533-01-P